DEPARTMENT OF THE INTERIOR

National Park Service

Notice of Intent to Repatriate Cultural Items in the Possession of the Section of Anthropology, Carnegie Museum of Natural History, Pittsburgh, PA

AGENCY: National Park Service, Interior.

ACTION: Notice.

Notice is hereby given under the Native American Graves Protection and Repatriation Act, 43 CFR 10.10(a)(3), of the intent to repatriate cultural items in the possession of the Section of Anthropology, Carnegie Museum of Natural History, Pittsburgh, PA which meet the definition of “unassociated funerary object” under Section 2 of the Act.

The 326 cultural items consist of a metal pipe (#01187), an English clay pipe (#01269); two shell ornaments (#15236); a shell bead (#15260); 214 shell beads (#16159); 9 shell beads (#16164); 95 shell disc beads , one cylindrical catlinite bead, one round catlinite bead (#16196); and one kettle fragment (#16404).

In 1968, these cultural items were donated by Miss Rhea E. Beck and Mrs. Hazel Beck Lees to the Carnegie Museum as part of the John A. Beck Archaeological and Ethnographic Collection. During the early 20th century, these cultural items were purchased from Wm. W. Adams, an individual known for digging into graves and sites for objects to sell.

Based on catalog information, these cultural items have been determined to come from locations within “old Indian Reservation, Cayuga, (Co.), NY”, or Upper Cayuga, NY. Consultations with a representative of the Cayuga Nation of New York indicates these cultural items were taken from Cayuga tribal land.

Based on the above mentioned information, officials of the Carnegie Museum of Natural History have determined that, pursuant to 43 CFR 10.2(d)(2)(ii), these 326 cultural items are reasonably believed to have been placed with or near individual human remains at the time of death or later as part of the death rite or ceremony and are believed, by a preponderance of the evidence, to have been removed from a specific burial site of an Native American individual. Officials of the Carnegie Museum of Natural History have also determined that, pursuant to 43 CFR 10.2(e), there is a relationship of shared group identity which can be reasonably traced between these items and the Cayuga Nation of New York.

This notice has been sent to officials of the Cayuga Nation of New York and the Seneca-Cayuga Tribe of Oklahoma. Representatives of any other Indian tribe that believes itself to be culturally affiliated with these objects should contact Verna L. Cowin, Associate Curator, Section of Anthropology, Carnegie Museum of Natural History, 5800 Baum Blvd., Pittsburgh, PA 15206-3706; telephone: (412) 665-2601 before May 30, 2000. Repatriation of these objects to the Cayuga Nation of New York may begin after that date if no additional claimants come forward.

The National Park Service is not responsible for the determinations within this notice.

Dated: April 21, 2000.
Veletta Canouts,
Acting Departmental Consulting Archeologist, Deputy Manager, Archeology and Ethnography Program.

[FR Doc. 00-10534 Filed 4-26-00; 8:45 am]

BILLING CODE 4310-70-F